SMALL BUSINESS ADMINISTRATION

[Declaration of Economic Injury Disaster #9G67]

State of New York (and a Contiguous County in the State of New Jersey)

Bronx County and the contiguous counties of New York, Queens, and Westchester in the State of New York, and Bergen County, New Jersey constitute an economic injury disaster loan area as a result of a fire that occurred on October 20, 1999 in the Castle Hill section of the Bronx. Eligible small businesses and small agricultural cooperatives without credit available elsewhere may file applications for economic injury assistance as a result of this disaster until the close of business on November 9, 2000 at the address listed below or other locally announced locations: U.S. Small Business Administration, Disaster Area 1 Office, 360 Rainbow Blvd, South, 3rd Floor, Niagara Falls, NY 14303.

The interest rate for eligible small businesses and small agricultural cooperatives is 4 percent.

The economic injury number for the State of New Jersey is 9G68.

(Catalog of Federal Domestic Assistance Program No. 59002)

Dated: February 9, 2000.
Aida Alvarez,
Administrator.

[FR Doc. 00-4013 Filed 2-17-00; 8:45 am]

BILLING CODE 8025-01-P